DEPARTMENT OF ENERGY

Federal Energy Regulatory Commission

[Docket No. RP02-109-000]

Granite State Gas Transmission; Notice of Proposed Changes in FERC Gas Tariff

December 6, 2001.

Take notice that on November 30, 2001, Granite State Gas Transmission (Granite State) tendered for filing as part of its FERC Gas Tariff, Third Revised Volume No. 1, the following revised tariff sheets to become effective January 1, 2002:

Twenty-fifth Revised Sheet No. 21

Twenty-sixth Revised Sheet No. 22

Seventeenth Revised Sheet No. 23

Granite State states that this filing is being submitted in accordance with the Commission's order issued on September 19, 2001 in Gas Research Institute's (GRI) Docket No. RP01-434-000 (Order Approving Settlement), and in accordance with Section 18 of the General Terms and Conditions of its FERC Gas Tariff, Granite State is submitting revised tariff sheets to reflect the 2002 GRI funding mechanism.

Granite State states that copies of its filing is being served on its firm and interruptible customers, and affected state commissions.

Any person desiring to be heard or to protest said filing should file a motion to intervene or a protest with the Federal Energy Regulatory Commission, 888 First Street, NE, Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-30692 Filed 12-11-01; 8:45 am]

BILLING CODE 6717-01-P